FEDERAL COMMUNICATIONS COMMISSION

47 CFR Part 15

[ET Docket No. 98-153; FCC 03-33]

Ultra-Wideband Transmission Systems

AGENCY: Federal Communications Commission.

ACTION: Proposed rule.

SUMMARY: Fourteen petitions for reconsideration were filed in response to the regulations for unlicensed ultra-wideband (“UWB”) operation. Some of the petitions addressed matters that were outside of the scope of this proceeding, resulting in the Commission issuing a Further Notice of Proposed Rule Making to address the issues raised.

DATES: Comments due July 21, 2003. Reply Comments due August 20, 2003.

ADDRESSES: All filings must be sent to the Commission's Secretary, Marlene H. Dortch, Office of Secretary, Federal Communications Commission, 445 12th Street, SW., TW-B204, Washington, DC 20554.

FOR FURTHER INFORMATION CONTACT: John Reed (202) 418-2455, Policy and Rules Division, Office of Engineering and Technology.

SUPPLEMENTARY INFORMATION: This is a summary of the Further Notice of Proposed Rule Making portion of the Commission's Memorandum Opinion and Order and Further Notice of Proposed Rule Making, FCC 03-33, adopted February 13, 2003, and released March 12, 2003. The full text of this document is available for inspection and copying during regular business hours in the FCC Reference Center (Room CY-A257), 445 12th Street, SW., Washington, DC 20554. The complete text of this document also may be purchased from the Commission's copy contractor, Qualex International, 445 12th Street, SW., Room, CY-B402, Washington, DC 20554. The full text may also be downloaded at: http://www.fcc.gov. Alternative formats are available to persons with disabilities by contacting Brian Millin at (202) 418-7426 or TTY (202) 418-7365.

Summary of Further Notice of Proposed Rule Making

1. On February 14, 2002, the Commission adopted a First Report and Order implementing regulations to permit the unlicensed operation of ultra-wideband transmission systems. Fourteen petitions for reconsideration were filed in response to that Order. New rules were proposed to address issues raised by MSSI and by Siemens regarding the operation of low pulse repetition frequency (PRF) UWB systems, including vehicular radars, in the 3.1-10.6 GHz band; and the operation of frequency hopping vehicular radars in the 22-29 GHz band as UWB devices. The Commission also proposed new rules that would establish new peak power limits for wideband Part 15 devices that do not operate as UWB devices and proposed to eliminate the definition of a UWB device.

2. Proposed changes to the UWB standards to accommodate the MSSI radar system. Comments are requested on allowing UWB systems that employ a pulse repetition frequency (PRF) no greater than 200 kHz to be used for any type of application in the 3.1 GHz to 10.6 GHz band. MSSI specifically mentioned vehicular radar systems as an example of such equipment. The emission standards limit the interference potential of low PRF emitters. As the PRF decreases below a certain level, depending on the RBW used to measure the peak emission, the peak limit becomes the defining standard and the average emission level generated in a 1 MHz RBW decreases below the limit specified in the regulations. Accordingly, UWB devices employing a low PRF are limited in their output levels by the standard on peak emission levels, not by the standard on average emission levels. Comments are requested on whether a different PRF limit should be employed, if any other changes to the standards, including changes to the emission limits, are necessary to incorporate this addition to the type of UWB devices permitted to operate outdoors, or if the addition to the operation of outdoor UWB devices should be expanded only to include low PRF vehicular radar systems. Specific technical analyses supporting the comments are requested.

3. Proposed changes to the UWB standards to accommodate the Siemens VDO radar system. Siemens requested an amendment of the rules to permit the operation vehicular radar systems in the 22-29 GHz band using frequency hopping modulation to comply with the UWB definition and bandwidth requirements, provided the measurements are averaged over a 10 millisecond period. Siemens VDO also requested that vehicular radar systems be permitted to comply with the RMS average emission limits based on averaging over a 10 millisecond time period. The Commission agrees that public comment should be obtained on Siemens VDO's proposal. This proposal is limited solely to vehicle radar systems operating in the 22-29 GHz band. Further, no changes are proposed to the emission limits applied to UWB vehicular radar systems. Rather, we are proposing new measurement techniques that may accommodate frequency hopping systems as UWB vehicular radars. We propose to permit frequency hopping systems to operate under the provisions for UWB vehicular radar systems provided the minimum UWB bandwidth is achieved in no greater than 10 milliseconds and the transmitter complies with all other technical standards for UWB operation in the 22-29 GHz band. Compliance with the average emission limit would be based on measurement using a one megahertz resolution bandwidth (RBW), a video bandwidth equal to or greater than the RBW, an RMS detector function, and a maximum 10 millisecond averaging time. The peak measurement would be required to be performed as currently specified in the rules using a peak hold detector and shall be performed over a sufficiently long period that the peak levels being measured cease increasing.

4. Comments are requested on whether the higher instantaneous power delivered by a frequency hopping system would cause harmful interference to these systems. Comments also are requested on the proposed measurement procedures. For example, should the peak measurement be performed with the hopping sequence stopped; should a different averaging time be employed; should the averaging time be based on the number of hops and the dwell time of the hops; and should a maximum time be specified within which all hopping channels must be used? Comments also are sought on the measurement procedure that would be used to demonstrate compliance with the UWB bandwidth limit. Siemens requests that the bandwidth be measured based on two different possible procedures described in the appendix to its petition. Both of the procedures suggested by Siemens are performed with the frequency hopping system active. However, we are concerned that those procedures may not indicate the actual bandwidth employed by the system and the corresponding distribution of RF energy, depending on various technical parameters of the actual hopping system, e.g., the distribution of the hopping channels, the dwell times for the hops, the number of hopping channels, the separation of the channels, the bandwidth of a single hopping channel, the number of hops in a specified time period, etc. Thus, we propose that the bandwidth be measured by first measuring the −10 dB bandwidth of a single hopping channel based on use of a peak hold detector and a 1 MHz resolution bandwidth, determining how many non-overlapping hops occur within a 10 millisecond period and multiplying the two values. Comments are requested on this proposed measurement procedure as well as the procedures described by the petitioner. Comments also are requested on any interference concerns that arise from this new modulation type or its method of measurement. The comments should address specific interference concerns such as possible interference to Amateur Radio Service operations, including amateur satellite systems, to EESS operation, and to police radar operations and should include a technical justification. Comments are requested on whether the compliance measurement procedure proposed by the petitioner is applicable only to systems that are similar to its vehicular radar system or if they are applicable to vehicular radar systems in general. Do the various system parameters need to be limited to a specific range of values for the measurements to be meaningful? If so, what is the range of parameters over which the limits are to be applied? Can a general measurement procedure be developed that is applicable for a full range of system parameters? If so, what is this measurement procedure? The measurement procedure proposed by the petitioner involves a power measurement over a 10 millisecond averaging time period. Comments are requested as to whether these time averaged measurements should be made using a spectrum analyzer in a swept frequency mode or should the spectrum analyzer be stepped across the frequency band of interest in discrete steps with a defined dwell time at each step. Comments also are requested on the adequacy of the measurement results for the purpose of quantifying the impact to systems that could receive interference from the frequency hopping vehicular radar systems. Comments also are requested on any limits that should be applied to the number of hopping channels, the maximum occupancy time permitted for a hopping channel during any full hopping sequence, the maximum time it takes to complete a full hopping sequence, and any other pertinent technical characteristics.

5. Proposed changes to the non-UWB standards to accommodate wideband Part 15 transmitters. The peak emission limit specified in 47 CFR 15.35(b) was established based on the operation of narrowband transmission systems and may unfairly penalize some wideband operations. A limit similar to that adopted in the R&O for UWB systems is proposed to eliminate the bias under the part 15 regulations towards narrowband operation. Under the UWB regulations, the EIRP limit on peak emissions is 0 dBm based on the use of a 50 MHz resolution bandwidth (RBW). A lower RBW may be employed, down to as low as 1 MHz, provided the peak limit is similarly reduced to the level 20 log (RBW/50) dBm EIRP, where RBW is the resolution bandwidth in megahertz. UWB systems also must operate with a −10 dB fractional bandwidth of at least 0.2 or have a −10 dB bandwidth of at least 500 MHz, whichever is less. Below 2.5 GHz, the fractional bandwidth is dominant and above 2.5 GHz the 500 MHz bandwidth limit dominates. Because we appear to be dealing primarily with systems operating above 2.5 GHz, we will employ the 500 MHz minimum UWB bandwidth as a guideline for simplicity. Thus, the maximum resolution bandwidth that is used to measure peak limit for UWB emitters is one-tenth of the minimum UWB bandwidth. Accordingly, it appears that a peak limit, equivalent to the UWB standards, can be established for conventional part 15 devices based on a limit of 20 log (RBW/50) dBm EIRP where RBW is the resolution bandwidth of the measurement instrument in megahertz and where RBW must not be greater than one-tenth of the −10 dB bandwidth of the emission being measured.

6. We propose to amend 47 CFR 15.35(b) to clarify the existing requirements as requested by MSSI, and to provide an alternative standard for peak emission limits for wideband Part 15 transmission systems. The specific proposed changes to this rule paragraph are shown in the rules section at the end of this summary. Comments are requested on this proposal. Comments also are requested on the alternative proposal presented by MSSI, namely should the rules be amended to permit devices operating above 1000 MHz under the part 15 general emission standards in 47 CFR 15.209 to comply with a peak emission limit of 5000 uV/m at 3 meters based on a measurement using a peak detector, a 1 MHz resolution bandwidth and a video bandwidth no less than 1 MHz? We request comments on any changes to the interference potential of wideband part 15 devices that may occur as a result of these proposals. Technical support is requested for comments arguing interference concerns.

7. UWB definition. The minimum UWB bandwidth requirement could cause a manufacturer to design transmitters that occupy more bandwidth than is operationally necessary or transmitters that inject noise to increase the occupied bandwidth simply to permit operation under the UWB regulations. Such systems would place greater energy in frequency bands where operation is not necessary for the system to function. Thus, a minimum bandwidth standard can be counterproductive to reducing the potential for harmful interference. For this reason, we are proposing to eliminate the definition of an ultra-wideband transmitter in 47 CFR 15.503(d). In its place, we would permit the operation of any transmission system, regardless of its bandwidth, as long as it complies with the standards for UWB operation set forth in Subpart F of 47 CFR 15. We also propose to change the limit on peak power to the same limit we proposed above for non-UWB operation. This will ensure that excessive peak power levels are not permitted from narrowband systems. Comments are requested on this proposal. We request comments on any potential increase or decrease in interference potential to authorized radio services that could be caused by the adoption of this proposal. The comments should address the interference potential from narrowband systems operating under the UWB regulations. The comments also should address whether additional standards, such as a spectral power density limit based on a bandwidth narrower than 1 MHz, are needed. All comments should be based on a technical analysis of the interference potential.

Administrative Provisions

8. Initial Regulatory Flexibility Analysis. As required by Section 603 of the Regulatory Flexibility Act,¹ the Commission has prepared an Initial Regulatory Flexibility Analysis (IRFA) of the expected significant economic impact on small entities by the policies and rules proposed in this Further Notice of Proposed Rule Making (“Further Notice”). Written public comments are requested on the IRFA. Comments must be identified as responses to the IRFA and must be filed by the deadlines for comments on the Further Notice provided in paragraph 175 of the item. The Commission shall send a copy of this Further Notice, including the IRFA, to the Chief Counsel for Advocacy of the Small Business Administration in accordance with paragraph 603(a) of the Regulatory Flexibility Act. In addition, the Further Notice and the IRFA (or summaries thereof) will be published in the Federal Register.²

¹ 5 U.S.C. 603.

² 5 U.S.C. 603(a).

A. Reason for Action

This rulemaking proposal is initiated to obtain comments regarding proposed changes to the regulations for radio frequency devices that do not require a license to operate. The Commission seeks to determine if its standards should be amended to permit the operation of vehicular radar and other low-pulse repetition frequency outdoor UWB devices in the 3.1-10.6 GHz band and to permit the operation of frequency hopping vehicular radar systems in the 22-29 GHz band under the UWB regulations. It also seeks to amend the peak power limit on non-UWB unlicensed devices.

B. Legal Basis

The proposed action is taken pursuant to sections 4(i), 301, 302, 303(e), 303(f), 303(r), 304 and 307 of the Communications Act 10 1934, as amended, 47 U.S.C. sections 154(i), 301, 302, 303(e), 303(f), 303(r), 304, and 307.

C. Description and Estimate of the Number of Small Entities to Which the Proposed Rules Will Apply

The RFA directs agencies to provide a description of, and where feasible, an estimate of the number of small entities that may be affected by the proposed rules, if adopted.³ The RFA generally defines the term “small entity” as having the same meaning as the terms “small business,” “small organization,” and “small governmental jurisdiction.”⁴ In addition, the term “small business” has the same meaning as the term “small business concern” under the Small Business Act.⁵ A “small business concern” is one which: (1) Is independently owned and operated; (2) is not dominant in its field of operation; and (3) satisfies any additional criteria established by the Small Business Administration (SBA).⁶

³ 5 U.S.C. 603(b)(3).

⁴ 5 U.S.C. 601(6).

⁵ 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁶ 15 U.S.C. 632.

A small organization is generally “any not-for-profit enterprise which is independently owned and operated and is not dominant in its field.”⁷ Nationwide, as of 1992, there were approximately 275,801 small organizations.⁸ “Small governmental jurisdiction” ⁹ generally means “governments of cities, counties, towns, townships, villages, school districts, or special districts, with a population of less than 50,000.” ¹⁰ As of 1992, there were approximately 85,006 governmental entities, total, in the United States.¹¹ This number includes 38,978 cities, counties, and towns; of these, 37,566, or 96%, have populations of fewer than 50,000.¹² The Census Bureau estimates that this ratio is approximately accurate for all governmental entities. Thus, of the 85,006 governmental entities, we estimate that 81,600 (96%) are small entities. Nationwide, as of 1992, there were 4.44 million small business firms, according to SBA data.¹³

⁷ 5 U.S.C. 601(4).

⁸ U.S. Department of Commerce, Bureau of the Census, 1992 Economic Census, Table 6 (special tabulation of data under contract to the Office of Advocacy of the U.S. Small Business Administration).

⁹ 47 CFR 1.1162.

¹⁰ 5 U.S.C. 601(5).

¹¹ U.S. Department of Commerce, Bureau of the Census, 1992 Census of Governments.

¹² U.S. Department of Commerce, Bureau of the Census, 1992 Census of Governments.

¹³ U.S. Department of Commerce, Bureau of the Census, 1992 Census of Transportation, Communications, and Utilities, UC 92-S-1, Subject Series, Establishment and Firm Size, Table 2D, Employment Size of Firms.

The SBA has developed a small business size standard for wireless firms within the two broad economic census categories of Paging ¹⁴ and Cellular and Other Wireless Telecommunications.¹⁵ Under both SBA categories, a wireless business is small if it has 1,500 or fewer employees. For the census category of Paging, Census Bureau data for 1997 show that there were 1320 firms in this category, total, that operated for the entire year.¹⁶ Of this total, 1303 firms had employment of 999 or fewer employees, and an additional 17 firms had employment of 1,000 employees or more.¹⁷ Thus, under this category and associated small business size standard, the great majority of firms can be considered small. For the census category Cellular and Other Wireless Telecommunications firms, Census Bureau data for 1997 show that there were 977 firms in this category, total, that operated for the entire year.¹⁸ Of this total, 965 firms had employment of 999 or fewer employees, and an additional 12 firms had employment of 1,000 employees or more.¹⁹ Thus, under this second category and size standard, the great majority of firms can, again, be considered small.

¹⁴ 13 CFR 121.201, NAICS code 513321 (changed to 517211 in October 2002).

¹⁵ 13 CFR 121.201, NAICS code 513322 (changed to 517212 in October 2002).

¹⁶ U.S. Census Bureau, 1997 Economic Census, Subject Series: Information, “Employment Size of Firms Subject to Federal Income Tax: 1997,” Table 5, NAICS code 513321 (issued Oct. 2000).

¹⁷ Id. The census data do not provide a more precise estimate of the number of firms that have employment of 1,500 or fewer employees; the largest category provided is “Firms with 1,000 employees or more.”

¹⁸ U.S. Census Bureau, 1997 Economic Census, Subject Series: Information, “Employment Size of Firms Subject to Federal Income Tax: 1997,” Table 5, NAICS code 513322 (issued Oct. 2000).

¹⁹ Id. The census data do not provide a more precise estimate of the number of firms that have employment of 1,500 or fewer employees; the largest category provided is “Firms with 1,000 employees or more.”

The SBA has established a small business size standard for Radio and Television Broadcasting and Wireless Communications Equipment Manufacturing. Under this standard, firms are considered small if they have 750 or fewer employees.²⁰ Census Bureau data for 1997 indicate that, for that year, there were a total of 1,215 establishments in this category.²¹ Of those, there were 1,150 that had employment under 500, and an additional 37 that had employment of 500 to 999. Thus, under this size standard, the majority of establishments can be considered small.

²⁰ 13 CFR 121.201, NAICS code 334220.

²¹ U.S. Census Bureau, 1977 Economic Census, Industry Series: Manufacturing, “Industry Statistics by Employment Size,” Table 4, NAICS code 334220 (issued August 1999).

Satellite Telecommunications. The SBA has developed a small business size standard for Satellite Telecommunications Carriers, which consists of all such companies having $12.5 million or less in annual receipts.²² In addition, a second SBA size standard for Other Telecommunications includes “facilities operationally connected with one or more terrestrial communications systems and capable of transmitting telecommunications to or receiving telecommunications from satellite systems,”²³ and also has a size standard of annual receipts of $12.5 million or less. According to Census Bureau data for 1997, there were 324 firms in the category Satellite Telecommunications, total, that operated for the entire year.²⁴ Of this total, 273 firms had annual receipts of $5 million to $9,999,999 and an additional 24 firms had annual receipts of $10 million to $24,999,990.²⁵ Thus, under this size standard, the majority of firms can be considered small. In addition, according to Census Bureau data for 1997, there were 439 firms in the category Satellite Telecommunications, total, that operated for the entire year.²⁶ Of this total, 424 firms had annual receipts of $5 million to $9,999,999 and an additional 6 firms had annual receipts of $10 million to $24,999,990.²⁷ Thus, under this second size standard, the majority of firms can be considered small.

²² 13 CFR 121.201, North American Industry Classification System (NAICS) code 517410 (formerly 513340).

²³ Id. NAICS code 517910 (formerly 513390).

²⁴ U.S. Census Bureau, 1997 Economic Census, Subject Series: Information, “Receipt Size of Firms Subject to Federal Income Tax: 1997,” Table 4, NAICS code 517410 (issued Oct. 2000).

²⁵ Id.

²⁶ U.S. Census Bureau, 1997 Economic Census, Subject Series: Information, “Receipt Size of Firms Subject to Federal Income Tax: 1997,” Table 4, NAICS code 517910 (issued Oct. 2000).

²⁷ Id.

As no party currently is permitted to market or operate the proposed UWB standards, there will not be any impact on any small entities. On the other hand, the proposed change in the limit on peak power levels may relax the current emission limit for wideband transmission systems. The Commission does not have an estimated number for the small entities that may produce such products but believes that there are only a few in existence.

D. Description of Projected Reporting, Recordkeeping and Other Compliance Requirements for Small Entities

Part 15 transmitters are already required to be authorized under the Commission's certification procedure as a prerequisite to marketing and importation. The reporting and recordkeeping requirements associated with these equipment authorizations would not be changed by the proposals contained in this Notice. These changes to the regulations would permit the introduction of an entirely new category of radio transmitters. The change in the method of measuring peak power for wideband transmitters will result in a slight relaxation of the peak power limit standard on these devices.

E. Steps Taken To Minimize the Significant Economic Impact on Small Entities, and Significant Alternatives Considered

The RFA requires an agency to describe any significant, specifically small business, alternatives that it has considered in reaching its proposed approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”²⁸

²⁸ 5 U.S.C. 603(c)(1) through (c)(4).

The standards proposed in this proceeding are based on equipment performance and not on equipment design. As no party currently is permitted to market or operate the proposed UWB standards, there will not be any impact on any small entities. On the other hand, the proposed change in the limit on peak power levels may relax the current emission limit for wideband transmission systems.

F. Federal Rules That May Duplicate, Overlap, or Conflict With the Proposed Rule

None.

9. Request for Comments: This is a permit-but-disclose notice and comment rulemaking proceeding. Ex parte presentations are permitted, except during the Sunshine Agenda period, provided they are disclosed as provided in the Commission's rules. See generally 47 CFR 1.1202, 1.1203, and 1.2306(a).

10. Pursuant to §§ 1.415 and 1.419 of the Commission's Rules, 47 CFR 1.415 and 1.419, interested parties may file comments on or before July 21, 2003, and reply comments on or before August 20, 2003. Comments may be filed using the Commission's Electronic Comment Filing System (ECFS), http://www.fcc.gov/e-file/ecfs.html, or by filing paper copies. See Electronic Filing of Documents in Rulemaking Proceedings, 63 FR 23121 (1998).

11. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should including the following words in the body of the message, “get form <your e-mail address.” A sample form and directions will be sent in reply.

12. Parties who choose to file by paper must file an original and four copies of each filing. If more than one docket or rulemaking number appears in the caption of this proceeding, commenters must submit two additional copies for each additional docket or rulemaking number. All filings must be sent to the Commission's Secretary, Marlene H. Dortch, Office of the Secretary, Federal Communications Commission, 445 12th Street, SW., TW-A325, Washington, DC 20554. Comments and reply comments will be available for public inspection during regular business hours in the FCC Reference Center of the Federal Communications Commission, Room TW-A306, 445 12th Street, SW., Washington, DC 20554.

13. The proposed action is authorized under Sections 4(i), 301, 302, 303(e), 303(f), 303(r), 304 and 307 of the Communications Act of 1934, as amended, 47 U.S.C. 154(i), 301, 302, 303(e), 303(f), 303(r), 304, and 307.

List of Subjects in 47 CFR Part 15

Communications equipment, Radio, Reporting and recordkeeping requirements, Security measures.

Federal Communications Commission.
Marlene H. Dortch,
Secretary.

Proposed Rule Changes

For the reasons discussed in the preamble, title 47 of the Code of Federal Regulations, part 15, is proposed to be amended as follows:

PART 15—RADIO FREQUENCY DEVICES

1. The authority citation for part 15 continues to read as follows:

Authority: 47 U.S.C. 154, 302, 303, 304, 307, 336 and 544A.

2. Section 15.35 is amended by revising paragraph (b) to read as follows:

§ 15.35 Measurement detector functions and bandwidths.

* * * * *

(b) Unless otherwise specified, on any frequency or frequencies above 1000 MHz, the radiated emission limits are based on the use of measurement instrumentation employing an average detector function. Unless otherwise specified, average measurements above 1000 MHz shall be performed using a minimum resolution bandwidth of 1 MHz. When average radiated emission measurements are specified in this part, including emission measurements below 1000 MHz, there also is a limit on the peak radio frequency emissions. UWB devices operating under subpart F of this part shall comply with the peak limits specified in that subpart. For all other part 15 devices subject to limits based on average radiated emissions, the peak level shall comply with one of the following two levels, at the option of the responsible party:

(1) Unless a different peak limit is specified in the rules, e.g., see § 15.255 of this chapter, the total peak power shall not exceed by more than 20 dB the average limit permitted at the frequency being investigated. Note that a pulse desensitization correction factor may be required to measure the total peak emission level.

(2) The peak power shall not exceed an EIRP of 20 log (RBW/50) dBm where RBW is the resolution bandwidth in MHz employed by the measurement instrument. The RBW may not be lower than 1 MHz or greater than 50 MHz. Further, the RBW used in the measurement instrument shall not be greater than one-tenth of the −10 dB bandwidth of the device under test.

* * * * *

[FR Doc. 03-9880 Filed 4-21-03; 8:45 am]

BILLING CODE 6712-01-P